MEDICARE PAYMENT ADVISORY COMMISSION

Commission Meeting

AGENCY: Medicare Payment Advisory Commission.

ACTION: Notice of meeting.

SUMMARY: The Commission will hold its next public meeting on Thursday, October 9, 2003, and Friday, October 10, 2003, at the Ronald Reagan Building, International Trade Center, 1300 Pennsylvania Avenue, NW., Washington, DC. The meeting is tentatively scheduled to begin at 10 a.m. on October 9, and at 9 a.m. on October 10.

Topics for discussion include: beneficiaries' access to care in Medicare; hospital outpatient prospective payment issues; growth and variation in the use of physician services; Medicare+Choice and Medigap; disease management; preliminary data and workplans for payment adequacy analyses, including ambulatory surgical centers, post-acute care providers.

Agendas will be e-mailed approximately one week prior to the meeting. The final agenda will be available on the Commission's website (www.MedPAC.gov).

ADDRESSES: MedPAC's address is: 601 New Jersey Avenue, NW., Suite 9000, Washington, DC 20001. The telephone number is (202) 220-3700.

FOR FURTHER INFORMATION CONTACT: Diane Ellison, Office Manager, (202) 220-3700.

Mark E. Miller,
Executive Director.

[FR Doc. 03-24767 Filed 9-29-03; 8:45 am]

BILLING CODE 6820-BW-M